DEPARTMENT OF LABOR

Employment and Training Administration

[TA-W-59,717]

Kent Sporting Goods, Madison, GA; Notice of Termination of Investigation

Pursuant to Section 221 of the Trade Act of 1974, an investigation was initiated on July 13, 2006 in response to a petition filed on behalf of a worker at Kent Sporting Goods, Madison, Georgia.

The petitioning worker is covered by an active certification, (TA-W-55,434) which expires on September 8, 2006. Consequently, further investigation in this case would serve no purpose, and the investigation has been terminated.

Signed in Washington, DC, this 27th day of July 2006.
Richard Church,
Certifying Officer, Division of Trade Adjustment Assistance.

[FR Doc. E6-13187 Filed 8-10-06; 8:45 am]

BILLING CODE 4510-30-P